DEPARTMENT OF AGRICULTURE

Commodity Credit Corporation

7 CFR Part 1400

RIN 0560-AH85

Farm Program Payment Limitation and Payment Eligibility for 2009 and Subsequent Crop, Program, or Fiscal Years

AGENCY: Commodity Credit Corporation, USDA.

ACTION: Interim rule; reopening and extension of comment period.

SUMMARY: The Commodity Credit Corporation (CCC) published an interim rule on December 29, 2008 (73 FR 79267-79284), revising rules about payment limitation and payment eligibility for Farm Programs as required by the Food, Conservation, and Energy Act of 2008 (the 2008 Farm Bill). The 2008 Farm Bill provided new eligibility requirements based on annual income, sources of income, and type of entity. The Commodity Credit Corporation (CCC) is reopening and extending the comment period for the interim rule to give the public more time to provide input and recommendations on the interim rule. The original comment period closed on January 28, 2009, and CCC is reopening and extending it for 60 days from the date of this notice. While the interim rule became effective on December 23, 2008, CCC is extending the comments period by 60 days on the amendments to the regulations that will apply to 2009 and subsequent crop, program, or fiscal year benefits for programs subject to the provisions in our regulations.

DATES: We will consider comments that we receive by April 6, 2009.

ADDRESSES: We invite you to submit comments on the interim rule. In your comment, include the volume, date, and page number of this issue of the Federal Register. You may submit comments by any of the following methods:

• E-mail: Dan.McGlynn@wdc.usda.gov.

• Fax: (202) 690-2130.

• Mail: Dan McGlynn, Acting Director, Production, Emergencies and Compliance Division, FSA, U.S. Department of Agriculture (USDA), Stop 0517, Room 4754, 1400 Independence Ave., SW., Washington, DC 20250-0517.

• Hand Delivery or Courier: Deliver comments to the above address.

• Federal eRulemaking Portal: Go to http://www.regulations.gov. Follow the online instructions for submitting comments.

Comments may be inspected at the mail address listed above between 8 a.m. and 4:30 p.m., Monday through Friday, except holidays. A copy of this interim rule is available through the Farm Service Agency (FSA) home page at http://www.fsa.usda.gov/.

FOR FURTHER INFORMATION CONTACT: Dan McGlynn, Acting Director, Production, Emergencies and Compliance Division, FSA, USDA, Stop 0517, 1400 Independence Ave., SW., Washington, DC 20250-0517. Telephone: (202) 720-3463. Electronic mail: Dan.McGlynn@wdc.usda.gov. Persons with disabilities who require alternative means for communication (Braille, large print, audio tape, etc.) should contact the USDA Target Center at (202) 720-2600 (voice and TDD).

SUPPLEMENTARY INFORMATION:

Background

On December 29, 2008, CCC published an interim rule titled “Farm Program Payment Limitation and Payment Eligibility for 2009 and Subsequent Crop, Program, or Fiscal Years” in the Federal Register (73 FR 79267-79284). CCC revised regulations as required by the 2008 Farm Bill (Pub. L. 110-246) to make changes in payment eligibility, payment attribution, maximum income limits, and maximum dollar benefit amounts for participants in CCC-funded programs. The interim rule amended the regulations to ensure that program payments and benefits are issued only to those persons and entities that meet all eligibility requirements, that a program participant does not receive any program payment above the maximum allowable benefit amount, and that applicable payments are not made to anyone whose average adjusted gross income exceeds the maximum dollar amounts established by the 2008 Farm Bill. The interim rule applies to 2009 and subsequent crop, program, or fiscal year benefits for programs subject to the provisions in our regulations.

This reopening and extension of comment period is to give the public more time to provide input and to make recommendations on the interim rule. With this extension, the public may continue to submit comments until April 6, 2009 for this rule spanning the 2009 through 2012 crop years. Crop year 2009 is already in effect and no further comments in regards to crop year 2009 will be accepted after the original January 28, 2009 deadline.

Signed in Washington, DC, on January 28, 2009.
Dennis J. Taitano,
Acting Executive Vice President, Commodity Credit Corporation.

[FR Doc. E9-2475 Filed 2-4-09; 8:45 am]

BILLING CODE 3410-05-P